DEPARTMENT OF TRANSPORTATION

Federal Railroad Administration

[Docket Number FRA-2000-7275]

Notice of Petition for Extension of Waiver of Compliance

AGENCY: Federal Railroad Administration (FRA), Department of Transportation (DOT).

ACTION: Notice.

SUMMARY: This document provides the public notice that the Pennsylvania Northeast Regional Railroad Authority, Lackawanna County, and Delaware-Lackawanna Railroad Company (the Petitioners) petitioned FRA for an extension of relief from certain regulations related to its shared use property.

DATES: FRA must receive comments on the petition by April 3, 2026. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: John Mardente, Railroad Safety Specialist, FRA Engineering & Technology Division, telephone: 202-493-1335, email: john.mardente@dot.gov.

SUPPLEMENTARY INFORMATION: Under part 211 of title 49 Code of Federal Regulations (CFR), this document provides the public notice that by letter dated February 4, 2026, the Petitioners petitioned FRA for an extension of a waiver of compliance or concurrence of exemption from certain provisions of the Federal railroad safety regulations contained at multiple parts of 49 CFR: part 221 (Rear End Marking Device—Passenger, Commuter and Freight Trains); part 223 (Safety Glazing Standards—Locomotives, Passenger Cars and Cabooses); section 229.129, Locomotive horn; part 231 (Railroad Safety Appliance Standards); part 238 (Passenger Equipment Safety Standards); part 239 (Passenger Train Emergency Preparedness); and part 240 (Qualification and Certification of Locomotive Engineers). FRA assigned the petition Docket Number FRA-2000-7275.

Specifically, the Petitioners request extended relief from § 229.129, part 231, and part 240 concerning shared use track with the Lackawanna County Historical Trolley Excursion. Further, the Petitioners seek concurrence that exemptions in parts 221, 223, 238, and 239 apply to the operations. In the request, the Petitioners explain that the historic trolley is operated as a functional “living history” exhibit, and not for transportation purposes, and uses temporal separation “that guarantees exclusive use of the shared trackage during the excursion period.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by April 3, 2026 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2026-04272 Filed 3-3-26; 8:45 am]

BILLING CODE 4910-06-P